DEPARTMENT OF THE INTERIOR

Fish and Wildlife Service

50 CFR Part 92

[Docket No. FWS-R7-MB-2021-0172; FXMB12610700000-201-FF07M01000]

RIN 1018 BF65

Migratory Bird Subsistence Harvest in Alaska; Harvest Regulations for Migratory Birds in Alaska During the 2022 Season

AGENCY: Fish and Wildlife Service, Interior.

ACTION: Proposed rule.

SUMMARY: We, the U.S. Fish and Wildlife Service (Service or USFWS), are proposing changes to the migratory bird subsistence harvest regulations in Alaska. These regulations allow for the continuation of customary and traditional subsistence uses of migratory birds in Alaska and prescribe regional information on when and where the harvesting of birds may occur. These regulations were developed under a co-management process involving the Service, the Alaska Department of Fish and Game, and Alaska Native representatives. The proposed changes would update the regulations to incorporate revisions requested by these partners.

DATES: We will accept comments received or postmarked on or before April 13, 2022.

ADDRESSES: You may submit comments by one of the following methods:

• Federal eRulemaking Portal: https://www.regulations.gov. Follow the instructions for submitting comments to Docket No. FWS-R7-MB-2021-0172.

• U.S. Mail: Public Comments Processing, Attn: FWS-R7-MB-2021-0172, U.S. Fish and Wildlife Service, MS: JAO/3W, 5275 Leesburg Place, Falls Church, VA 22041 3803.

We will post all comments on https://www.regulations.gov. This generally means that we will post any personal information you provide us (see the Public Comment Procedures section, below, for more information).

FOR FURTHER INFORMATION CONTACT: Eric J. Taylor, U.S. Fish and Wildlife Service, 1011 E Tudor Road, Mail Stop 201, Anchorage, AK 99503; (907) 903 7210.

SUPPLEMENTARY INFORMATION:

Public Comment Procedures

To ensure that any action resulting from this proposed rule will be as accurate and as effective as possible, we request that you send relevant information for our consideration. The comments that will be most useful and likely to influence our decisions are those that you support by quantitative information or studies and those that include citations to, and analyses of, the applicable laws and regulations. Please make your comments as specific as possible and explain the basis for them. In addition, please include sufficient information with your comments to allow us to authenticate any scientific or commercial data you include.

You must submit your comments and materials concerning this proposed rule by one of the methods listed above in ADDRESSES. We will not accept comments sent by email or fax or to an address not listed in ADDRESSES. If you submit a comment via https://www.regulations.gov, your entire comment—including any personal identifying information, such as your address, telephone number, or email address—will be posted on the website. When you submit a comment, the system receives it immediately. However, the comment will not be publicly viewable until we post it, which might not occur until several days after submission.

If you mail a hardcopy comment directly to us that includes personal information, you may request at the top of your document that we withhold this information from public review. However, we cannot guarantee that we will be able to do so. All comments and materials we receive will be available for public inspection via https://www.regulations.gov. Search for FWS-R7-MB-2021-0172, which is the docket number for this rulemaking.

Background

The Migratory Bird Treaty Act of 1918 (MBTA, 16 U.S.C. 703 et seq.) was enacted to conserve certain species of migratory birds and gives the Secretary of the Interior the authority to regulate the harvest of these birds. The law further authorizes the Secretary to issue regulations to ensure that the indigenous inhabitants of the State of Alaska may take migratory birds and collect their eggs for nutritional and other essential needs during seasons established by the Secretary so as to provide for the preservation and maintenance of stocks of migratory birds (16 U.S.C. 712(1)).

The take of migratory birds for subsistence uses in Alaska occurs during the spring and summer, during which timeframe when the annual fall/winter harvest of migratory birds is not allowed. Regulations governing the subsistence harvest of migratory birds in Alaska are located in title 50 of the Code of Federal Regulations (CFR) in part 92. These regulations allow for the continuation of customary and traditional subsistence uses of migratory birds and prescribe regional information on when and where the harvesting of birds in Alaska may occur.

The migratory bird subsistence harvest regulations are developed cooperatively. The Alaska Migratory Bird Co-Management Council (Council or AMBCC) consists of the U.S. Fish and Wildlife Service, the Alaska Department of Fish and Game (ADFG), and representatives of Alaska's Native population. The Council's primary purpose is to develop recommendations pertaining to the subsistence harvest of migratory birds.

The Council generally holds an annual spring meeting to develop recommendations for migratory bird subsistence-harvest regulations in Alaska that would take effect in the spring of the next year. In 2021, the in-person spring meeting did not occur due to the coronavirus pandemic. Instead, the Council met virtually via teleconference on April 5, 2021, to approve subsistence harvest regulations that would take effect during the 2022 harvest season. The Council's recommendations were presented to the Pacific Flyway Council for review and subsequent submission to the Service Regulations Committee (SRC) for approval at the SRC meeting on September 28 and 29, 2021.

Proposed Revisions to the Regulations

Per the collaborative process described above, this document proposes the following revisions to the regulations for the taking of migratory birds for subsistence uses in Alaska during the spring and summer.

Proposed Revisions to Subpart A

In part 92, subpart A (general provisions), we propose to clarify the regulations defining excluded areas, which are those areas that are closed to subsistence harvest.

First, we propose revisions to clarify that subsistence hunters whose communities petitioned successfully to be added to the list of included areas appearing at 50 CFR 92.5(a)(2) may harvest migratory birds within the entirety of the subsistence harvest areas designated for their community, including portions of harvest areas that occur within designated excluded areas.

For example, portions of the subsistence harvest areas selected by communities in the Upper Copper River Region listed as eligible under 50 CFR 92.5(a)(2)(i) occur within the Matanuska-Susitna Borough, an excluded area that is otherwise closed to harvest (50 CFR 92.5(b)(2)). The regulations do not specify that these portions of designated harvest areas that occur in excluded areas are, in fact, open to subsistence hunting. To address this issue, we propose to amend 50 CFR 92.5(b) to make an exception to harvest closures in those portions of excluded areas that fall within subsistence harvest areas designated for specific communities that petitioned to be listed as eligible for participation in the spring-summer subsistence hunt (50 CFR 92.5(a)(2)).

This exception would not apply to subsistence harvest areas that have been generally designated for regions (e.g., Bering Strait Norton Sound Region) or subregions (e.g., Bering Strait Norton Sound Stebbins/St. Michael Area) listed as included areas at 50 CFR 92.5(a).

Second, to clarify the boundaries of areas that are closed to subsistence harvest, we propose to address an apparent inconsistency in some terms used in part 92. The regulations governing subsistence harvest of migratory birds were set forth August 16, 2002 (67 FR 53511). That rule defined the term “village” at 50 CFR 92.4 and also set forth provisions regarding areas that are excluded from eligibility to participate in the subsistence harvest of migratory birds. Under 50 CFR 92.5(b)(2), excluded areas include “[v]illage areas” located in Anchorage, the Matanuska-Susitna Borough, the Kenai Peninsula roaded area, the Gulf of Alaska roaded area, Southeast Alaska, and the Central Interior Excluded Area. The definition of “village” at 50 CFR 92.4 and use of the term “village areas” at 50 CFR 92.5(b)(2) to describe excluded areas has created confusion in determining the boundaries of closed areas. We never intended for the excluded areas set forth at 50 CFR 92.5(b)(2) to be only those portions of those areas that meet the definition of “village” at 50 CFR 92.4. Therefore, we propose to remove the term “village areas” from 50 CFR 92.5(b)(2) to clarify that excluded areas are closed to harvest in their entirety, except those portions that occur within a harvest area that has been designated for a specific community.

Third, we would clarify the language defining boundaries of the excluded areas of the Kenai Peninsula roaded area and the Gulf of Alaska roaded area. The geographic boundaries of the Kenai Peninsula roaded area and the Gulf of Alaska roaded area are undefined in the regulations, making the development of usable hunt maps imprecise and ambiguous. The proposed changes to the regulations would allow publication of maps that are accurate and reproducible into the future and interpretable by subsistence hunters and law enforcement officials.

Finally, we are including in this proposed rule a needed correction. The Chugach Community of Cordova should have been included in the list of included areas for the Gulf of Alaska region in subpart A following Council action in 2014. The omission of this community from the regulations was the result of an inadvertent oversight. The Chugach Community of Cordova does appropriately appear in the regulations for eligible subsistence-harvest areas in 50 CFR 92.31(j)(2). Therefore, we are proposing to add the Chugach Community of Cordova to the current list of included areas in 50 CFR 92.5(a)(2)(ii).

These proposed revisions to the regulations in subpart A are not anticipated to result in a significant increase in harvest of birds and eggs because spring and summer subsistence practices likely occur in these areas at the present time.

Proposed Revisions to Subpart D

In 50 CFR 92.31, we propose to clarify the designated harvest area boundaries for the communities of Port Graham and Nanwalek in the Gulf of Alaska Region and for the community of Tyonek in the Cook Inlet Region. Current harvest area definitions in the regulations for these communities are incomplete (that is, they do not describe a complete polygon), and only partially define the boundaries of the harvest areas. The proposed revisions would allow publication of maps that are accurate and reproducible into the future and provide a clear definition of the harvest areas designated for the communities that subsistence hunters and law enforcement officials can interpret and follow in the field.

Compliance With the MBTA and the Endangered Species Act

The Service has dual objectives and responsibilities for authorizing a subsistence harvest while protecting migratory birds and threatened species. Although these objectives continue to be challenging, they are not irreconcilable, provided that: (1) Regulations continue to protect threatened species, (2) measures to address documented threats are implemented, and (3) the subsistence community and other conservation partners commit to working together.

Mortality, sickness, and poisoning from lead exposure have been documented in many waterfowl species, including threatened spectacled eiders (Somateria fischeri) and the Alaska-breeding population of Steller's eiders (Polysticta stelleri). While lead shot has been banned nationally for waterfowl hunting since 1991, Service staff have documented the availability of lead shot in waterfowl rounds for sale in communities on the Yukon-Kuskokwim Delta and North Slope. The Service will work with partners to increase our education, outreach, and enforcement efforts to ensure that subsistence waterfowl hunting is conducted using nontoxic shot.

Conservation Under the MBTA

We have monitored subsistence harvest for the past 25 years through the use of household surveys in the most heavily used subsistence harvest areas, such as the Yukon-Kuskokwim Delta. Based on our monitoring of the migratory bird species and populations taken for subsistence, we find that this rule will provide for the preservation and maintenance of migratory bird stocks as required by the MBTA. Communication and coordination between the Service, the AMBCC, and the Pacific Flyway Council have allowed us to set harvest regulations to ensure the long-term viability of the migratory bird stocks.

Endangered Species Act Consideration

Spectacled eiders and the Alaska-breeding population of Steller's eiders are listed as threatened species under the Endangered Species Act of 1973, as amended (ESA; 16 U.S.C. 1531 et seq.). Their migration and breeding distribution overlap with areas where the spring and summer subsistence migratory bird hunt is open in Alaska. Neither species is included in the list of subsistence migratory bird species at 50 CFR 92.22; therefore, both species are closed to subsistence harvest. Under 50 CFR 92.21 and 92.32, the Service may implement emergency closures, if necessary, to protect Steller's eiders or any other endangered or threatened species or migratory bird population.

Section 7 of the ESA requires the Secretary of the Interior to review other programs administered by the Department of the Interior and utilize such programs in furtherance of the purposes of the ESA. The Secretary is further required to insure that any action authorized, funded, or carried out by the Department of the Interior is not likely to jeopardize the continued existence of any endangered species or threatened species or result in the destruction or adverse modification of critical habitat.

The Service's Alaska Region Migratory Bird Management Program is conducting an intra-agency consultation with the Service's Fairbanks Fish and Wildlife Field Office on this proposed rule. A biological opinion will be updated based on new information to ensure this rulemaking action is not likely to jeopardize the continued existence of endangered or threatened species or result in the destruction or adverse modification of designated critical habitat. Therefore, we expect this rule will comply with the ESA.

Comment Period

Implementation of the Service's 2013 Supplemental Environmental Impact Statement (SEIS) on the hunting of migratory birds resulted in changes to the overall timing of the annual regulatory schedule for the establishment of migratory bird hunting regulations and the Alaska migratory bird subsistence harvest regulations. The programmatic document, “Second Final Supplemental Environmental Impact Statement: Issuance of Annual Regulations Permitting the Hunting of Migratory Birds (SEIS 20130139),” filed with the Environmental Protection Agency (EPA) on May 24, 2013, addresses compliance with the National Environmental Policy Act by the Service for issuance of the annual framework regulations for hunting of migratory game bird species. We published a notice of availability of the SEIS in the Federal Register on May 31, 2013 (78 FR 32686), and our Record of Decision on July 26, 2013 (78 FR 45376).

The 2013 SEIS moved the annual SRC meeting from July to October, and this procedural change has greatly shortened our period each year to publish the proposed regulations and solicit comments. We are further bounded by a subsistence harvest start date of April 2, 2022. Thus, we have established a 30-day comment period for this proposed rule (see DATES, above), and we will be conducting Tribal consultations within Alaska simultaneously. We believe a 30-day comment period gives the public adequate time to provide meaningful comments.

Required Determinations

Regulatory Planning and Review (Executive Orders 12866 and 13563)

Executive Order 12866 provides that the Office of Information and Regulatory Affairs (OIRA) will review all significant rules. OIRA has determined that this proposed rule is not significant.

Executive Order 13563 reaffirms the principles of E.O. 12866 while calling for improvements in the nation's regulatory system to promote predictability, to reduce uncertainty, and to use the best, most innovative, and least burdensome tools for achieving regulatory ends. The Executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this proposed rule in a manner consistent with these requirements.

Regulatory Flexibility Act

The Department of the Interior certifies that, if adopted as proposed, this proposed rule will not have a significant economic impact on a substantial number of small entities as defined under the Regulatory Flexibility Act (5 U.S.C. 601 et seq.). A regulatory flexibility analysis is not required. Accordingly, a small entity compliance guide is not required. This proposed rule would legalize a preexisting subsistence activity, and the resources harvested will be consumed.

Small Business Regulatory Enforcement Fairness Act

This proposed rule is not a major rule under 5 U.S.C. 804(2), the Small Business Regulatory Enforcement Fairness Act. This proposed rule:

(a) Would not have an annual effect on the economy of $100 million or more. It would legalize and regulate a traditional subsistence activity. It would not result in a substantial increase in subsistence harvest or a significant change in harvesting patterns. The commodities that would be regulated under this rule are migratory birds. This proposed rule deals with legalizing the subsistence harvest of migratory birds and, as such, does not involve commodities traded in the marketplace. A small economic benefit from this rule would derive from the sale of equipment and ammunition to carry out subsistence hunting. Most, if not all, businesses that sell hunting equipment in rural Alaska qualify as small businesses. We have no reason to believe that this proposed rule would lead to a disproportionate distribution of benefits.

(b) Would not cause a major increase in costs or prices for consumers; individual industries; Federal, State, or local government agencies; or geographic regions. This proposed rule does not deal with traded commodities and, therefore, would not have an impact on prices for consumers.

(c) Would not have significant adverse effects on competition, employment, investment, productivity, innovation, or the ability of U.S.-based enterprises to compete with foreign-based enterprises. This proposed rule deals with the harvesting of wildlife for personal consumption. It would not regulate the marketplace in any way to generate substantial effects on the economy or the ability of businesses to compete.

Unfunded Mandates Reform Act

We have determined and certified under the Unfunded Mandates Reform Act (2 U.S.C. 1501 et seq.) that this rule would not impose a cost of $100 million or more in any given year on local, State, or Tribal governments or private entities. The proposed rule would not have a significant or unique effect on local, State, or Tribal governments or the private sector. A statement containing the information required by the Unfunded Mandates Reform Act is not required. Participation on regional management bodies and the Council requires travel expenses for some Alaska Native organizations and local governments. In addition, they assume some expenses related to coordinating involvement of village councils in the regulatory process. Total coordination and travel expenses for all Alaska Native organizations are estimated to be less than $300,000 per year. In a notice of decision (65 FR 16405; March 28, 2000), we identified 7 to 12 partner organizations (Alaska Native nonprofits and local governments) to administer the regional programs. The ADFG also incurs expenses for travel to Council and regional management body meetings. In addition, the State of Alaska would be required to provide technical staff support to each of the regional management bodies and to the Council. Expenses for the State's involvement may exceed $100,000 per year but should not exceed $150,000 per year. When funding permits, we make annual grant agreements available to the partner organizations and the ADFG to help offset their expenses.

Takings (Executive Order 12630)

Under the criteria in Executive Order 12630, this proposed rule would not have significant takings implications. This proposed rule is not specific to particular land ownership, but instead applies to the harvesting of migratory bird resources throughout Alaska. A takings implication assessment is not required.

Federalism (Executive Order 13132)

Under the criteria in Executive Order 13132, this proposed rule does not have sufficient federalism implications to warrant the preparation of a federalism summary impact statement. We discuss effects of this rule on the State of Alaska in the Unfunded Mandates Reform Act section, above. We worked with the State of Alaska to develop these proposed regulations. Therefore, a federalism summary impact statement is not required.

Civil Justice Reform (Executive Order 12988)

The Department, in promulgating this proposed rule, has determined that it would not unduly burden the judicial system and that it meets the requirements of sections 3(a) and 3(b)(2) of Executive Order 12988.

Government-to-Government Relations With Native American Tribal Governments

Consistent with Executive Order 13175 (65 FR 67249; November 9, 2000), “Consultation and Coordination with Indian Tribal Governments,” and Department of the Interior policy on Consultation with Indian Tribes (December 1, 2011), we will send letters via electronic mail to all 229 Alaska federally recognized Indian Tribes. Consistent with Congressional direction (Pub. L. 108-199, div. H, Sec. 161, Jan. 23, 2004, 118 Stat. 452, as amended by Pub. L. 108-447, div. H, title V, Sec. 518, Dec. 8, 2004, 118 Stat. 3267), we also will send letters to approximately 200 Alaska Native corporations and other Tribal entities in Alaska soliciting their input as to whether or not they would like the Service to consult with them on the 2022 migratory bird subsistence harvest regulations.

We implemented the amended treaty with Canada with a focus on local involvement. The treaty calls for the creation of management bodies to ensure an effective and meaningful role for Alaska's indigenous inhabitants in the conservation of migratory birds. According to the Letter of Submittal, management bodies are to include Alaska Native, Federal, and State of Alaska representatives as equals. They develop recommendations for, among other things: Seasons and bag limits, methods and means of take, law enforcement policies, population and harvest monitoring, educational programs, research and use of traditional knowledge, and habitat protection. The management bodies involve village councils to the maximum extent possible in all aspects of management. To ensure maximum input at the village level, we required each of the 11 participating regions to create regional management bodies consisting of at least one representative from the participating villages. The regional management bodies meet twice annually to review and/or submit proposals to the Statewide body.

Paperwork Reduction Act of 1995 (PRA)

This rule does not contain any new collection of information that requires approval by the Office of Management and Budget (OMB) under the Paperwork Reduction Act of 1995 (44 U.S.C. 3501 et seq.). An agency may not conduct or sponsor, and a person is not required to respond to, a collection of information unless it displays a currently valid OMB control number. OMB has previously approved the information collection requirements associated with subsistence harvest reporting and assigned the following OMB control numbers:

• Alaska Migratory Bird Subsistence Harvest Household Survey, OMB Control Number 1018-0124 (expires 04/30/2024), and

• Regulations for the Taking of Migratory Birds for Subsistence Uses in Alaska, 50 CFR part 92, OMB Control Number 1018-0178 (expires 04/30/2024).

National Environmental Policy Act Consideration (42 U.S.C. 4321 et seq.)

The annual regulations and options are considered in the January 2022 Environmental Assessment, “Managing Migratory Bird Subsistence Hunting in Alaska: Hunting Regulations for the 2022 Spring/Summer Harvest.” Copies are available from the person listed under FOR FURTHER INFORMATION CONTACT or at https://www.regulations.gov.

Energy Supply, Distribution, or Use (Executive Order 13211)

Executive Order 13211 requires agencies to prepare statements of energy effects when undertaking certain actions. This is not a significant regulatory action under this Executive Order; it allows only for traditional subsistence harvest and improves conservation of migratory birds by allowing effective regulation of this harvest. Further, this proposed rule is not expected to significantly affect energy supplies, distribution, or use. Therefore, this action is not a significant energy action under Executive Order 13211, and a statement of energy effects is not required.

List of Subjects in 50 CFR Part 92

Hunting, Treaties, Wildlife.

Proposed Regulation Promulgation

For the reasons set out in the preamble, we propose to amend 50 CFR part 92 as set forth below:

PART 92—MIGRATORY BIRD SUBSISTENCE HARVEST IN ALASKA

1. The authority citation for part 92 continues to read as follows:

Authority: 16 U.S.C. 703-712.

2. Amend § 92.5 by:

a. Revising paragraph (a)(2)(ii), the first full sentence of the introductory text of paragraph (b), and paragraphs (b)(2) and (3); and

b. Adding paragraphs (b)(4) and (5).

The revisions and additions read as follows:

§ 92.5 Who is eligible to participate?

* * * * *

(a) * * *

(2) * * *

(ii) Gulf of Alaska Region—Chugach Community of Chenega, Chugach Community of Cordova, Chugach Community of Nanwalek, Chugach Community of Port Graham, and Chugach Community of Tatitlek.

* * * * *

(b) Excluded areas. Excluded areas are not subsistence harvest areas and are closed to harvest, with the exception of any portion of an excluded area that falls within a harvest area that has been designated for a specific community under paragraph (a)(2) of this section. * * *

* * * * *

(2) The Municipality of Anchorage, the Matanuska-Susitna Borough, the Kenai Peninsula roaded area (as described in paragraph (b)(3) of this section), the Gulf of Alaska roaded area (as described in paragraph (b)(4) of this section), Southeast Alaska, and the Central Interior Excluded Area (as described in paragraph (b)(5) of this section) do not qualify for a spring and summer harvest.

(3) The Kenai Peninsula roaded area comprises the following: Game Management Unit (Unit) 7, Unit 15(A), Unit 15(B), and that portion of Unit 15(C) east and north of a line beginning at the northern boundary of Unit 15(C) and mouth of the Kasilof River at 60°23′19″ N; 151°18′37″ W, extending south along the coastline of Cook Inlet to Bluff Point (59°40′00″ N), then south along longitude line 151°41′48″ W to latitude 59°35′56″ N, then east to the tip of Homer Spit (excluding any land of the Homer Spit), then northeast to the north bank of Fox River (59°48′57″ N; 150°58′44″ W), and then east to the eastern boundary of Unit 15(C) at 150°19′59″ W.

(4) The Gulf of Alaska roaded area comprises the incorporated city boundaries of Valdez and Whittier, Alaska.

(5) The Central Interior Excluded Area comprises the following: The Fairbanks North Star Borough and that portion of Unit 20(A) east of the Wood River drainage and south of Rex Trail, including the upper Wood River drainage south of its confluence with Chicken Creek; that portion of Unit 20(C) east of Denali National Park north to Rock Creek and east to Unit 20(A); and that portion of Unit 20(D) west of the Tanana River between its confluence with the Johnson and Delta Rivers, west of the east bank of the Johnson River, and north and west of the Volkmar drainage, including the Goodpaster River drainage. The following communities are within the Excluded Area: Delta Junction/Big Delta/Fort Greely, McKinley Park/Village, Healy, Ferry, and all residents of the formerly named Fairbanks North Star Borough Excluded Area.

* * * * *

3. Amend § 92.31 by revising paragraphs (j)(3) and (k)(1) to read as follows:

§ 92.31 Region-specific regulations.

* * * * *

(j) * * *

(3) Kachemak Bay Area (Harvest area: That portion of Game Management Unit [Unit] 15[C] west and south of a line beginning at the northern boundary of Unit 15[C] and mouth of the Kasilof River at 60°23′19″ N; 151°18′37″ W, extending south along the coastline of Cook Inlet to Bluff Point [59°40′00″ N], then south along longitude line 151°41′48″ W to latitude 59°35′56″ N, then east to the tip of Homer Spit [excluding any land of the Homer Spit], then northeast to the north bank of the Fox River [59°48′57″ N; 150°58′44″ W], and then east to the eastern boundary of Unit 15[C] at 150°19′59″ W) (Eligible Chugach Communities: Port Graham, Nanwalek):

* * * * *

(k) * * *

(1) Season: April 2-May 31—That portion of Game Management Unit 16(B) west of the east bank of the Yentna River, south of the north bank of the Skwentna River, and south of the north bank of Portage Creek to the boundary of Game Management Unit 16(B) at Portage Pass; and August 1-31—That portion of Game Management Unit 16(B) west of longitude line 150° 56′ W, south of the north banks of the Beluga River and Beluga Lake, then south of latitude line 61°26′08″ N.

* * * * *

Shannon A. Estenoz,
Assistant Secretary for Fish and Wildlife and Parks.

[FR Doc. 2022-05251 Filed 3-11-22; 8:45 am]

BILLING CODE 4333-15-P